ENVIRONMENTAL PROTECTION AGENCY

[FRL-7827-6]

Privacy Act of 1974: Revision to an Existing Privacy Act System of Records

AGENCY: Environmental Protection Agency (EPA).

ACTION: Notice of revised system of records.

SUMMARY: Pursuant to the provisions of the Privacy Act of 1974 (5 U.S.C. 552a), the Office of Executive Secretariat (OEX) is giving notice that it proposes to publish a revised system of records notice for the Correspondence Management System. This system of records is designed to track, route, and store incoming and outgoing Agency correspondence from and to members of the public, private, and government sectors.

EFFECTIVE DATES: The revised notice will be effective November 23, 2004.

ADDRESSES: Questions regarding this notice should be addressed to the Director, Office of Executive Secretariat, 1200 Pennsylvania Ave., MC-1105A, Washington, DC 20460.

FOR FURTHER INFORMATION CONTACT: Brian Hope, at (202) 564-7311, or at hope.brian@epa.gov.

SUPPLEMENTARY INFORMATION:

I. General Information

The EPA Correspondence Management System is designed to track, route, and store incoming and outgoing Agency correspondence from and to members of the public, private, and governmental sectors. This new system changes only the software used to track information and does not change the types of records that are tracked or alter levels of access to that information. Access to the system is restricted to authorized users (EPA employees and on-site contractors that are cleared to handle such information. All information is maintained in a secure, password protected computer system located in secure areas and buildings with physical access controls and environmental controls. The system is maintained by the Office of Executive Secretariat in the Office of Administrator.

EPA has established an official public docket for this action under Docket ID No. OEI-2004-0003. The official public docket is the collection of materials that is available for public viewing at the OEI Docket in the EPA Docket Center, (EPA/DC) EPA West, Room B102, 1301 Constitution Avenue, NW., Washington, DC. The EPA Docket Center Public Reading Room is open from 8:30 a.m. to 4:30 p.m., Monday through Friday, excluding legal holidays. The telephone number for the Reading Room is (202) 566-1744, and the telephone number for the OEI Docket is (202) 566-1752.

An electronic version of the public docket is available through EPA's electronic public docket and comment system, EPA Dockets (http://www.epa.gov/edocket/). EPA Dockets can be used to view public comments, access the index listing of the contents of the official public docket, and to access those documents in the public docket that are available electronically. Although not all docket materials may be available electronically, you may still access any of the publicly available docket materials through the docket facility identified above.

Dated: October 1, 2004.
Kimberly T. Nelson,
Assistant Administrator and Chief Information Officer.

EPA-22

System Name:

Correspondence Management System.

Security Classification:

None.

System Location:

National Computer Center, U.S. Environmental Protection Agency Main Campus, 109 T.W. Alexander Drive, Research Triangle Park, North Carolina 27709.

Categories of Individuals Covered by the System:

Individuals who write to the U.S. Environmental Protection Agency or any of its employees in their official capacity; all individuals to whom correspondence is addressed by EPA or any of its employees in their official capacity; and individuals whose correspondence is referred to EPA by the President, the Vice President, or another federal agency. (Note: Two categories of correspondence that will not, in most cases, be logged into the system are (1) comments to a docket, and (2) Freedom of Information and Privacy Act requests. The Agency maintains separate applications, EPA Dockets and FOIAXPress, respectively, to log and track such correspondence.)

Categories of Records in the System:

Correspondence generated by anyone in the public, private, or government sectors and addressed to the U.S. Environmental Protection Agency or any of its employees in their official capacity. Correspondence generated by any employee of the U.S. Environmental Protection Agency in his or her official capacity. Complete records may include metadata about the correspondence that facilitates tracking and record retrieval, a scanned image or electronic copy of the incoming communication, draft(s) of the response document, supporting documents or other attachments, and a scanned image or electronic copy of the outgoing signed response. Pre-decisional draft responses will not be included as part of the final record. Maintenance of physical records is the responsibility of each office in accordance with the Agency's records management guidelines.

Authority for Maintenance of the System:

5 U.S.C. 301.

Purpose(s):

To track, route, and store incoming and outgoing Agency correspondence from and to members of the public, private, and governmental sectors.

Routine Uses of Records Maintained in the System:

The following General Routine Uses of EPA Systems of Records apply to this application:

A, B, C, D, E, F, G, H, I, J, K

Records may also be disclosed to a federal, state, or local governmental agency when it is determined that a response by that agency is more appropriate than a response by the U.S. Environmental Protection Agency.

Policies and Practices for Storing, Retrieving, Retaining, and Disposing of Records in the System:

Storage:

Computer database and paper files (until the Agency implements a National Archives and Records Administration-certified electronic records management system).

Retrievability:

All CMS records are full-text indexed and are searchable by any data element.

Safeguards:

CMS resides on servers located in a secure, access-controlled room at the EPA National Computer Center at the main EPA campus in Research Triangle Park, North Carolina. No unauthorized individuals may access the physical equipment on which the system resides.

Electronic access to CMS is available only through the EPA intranet via a Single Socket Layer-encrypted connection. All users must have a password-protected account that defines their level of access to data stored in the system. Accounts can only be created by the System Administrator or Assistant System Administrators.

Paper records are maintained in lockable file cabinets in secure, access-controlled rooms, areas, or buildings.

Retention and Disposal:

Paper and electronic record copies are retained and disposed of according to National Archives and Records Administration guidelines and the U.S. Environmental Protection Agency Records Control Schedule.

System Manager(s) and Address(es):

Director, Office of the Executive Secretariat, U.S. Environmental Protection Agency, 1200 Pennsylvania Avenue, NW., Washington, DC 20460; Correspondence Management System Administrator, Office of the Executive Secretariat, 1200 Pennsylvania Avenue, NW., Washington, DC 20460.

Notification Procedure:

Any individual, or his or her duly authorized representative, who (1) is desirous of knowing if information of any kind about him or her is maintained in the Correspondence Management System; (2) wishes to access the information, if any, maintained about him or her in the Correspondence Management System; or (3) wants to formally contest the contents of a record maintained in the Correspondence Management System, should make his or her request in writing to the System Manager(s).

Record Access Procedures:

At a minimum, requestors will be required to provide adequate identification (e.g., driver license, military identification card, employee badge or identification card) and, if necessary, proof of authority. Additional identity verification procedures may be required as warranted. Copies of records that are responsive to the individual's request will be mailed or delivered by reasonable alternate means, if requested. Fees may be incurred if copies are made and mailed in accordance with 16.4 of current regulations.

Contesting Records Procedures:

Individuals requesting correction of or amendment to records must reasonably and accurately identify the record in question, specify the information they are contesting, and detail the corrective action sought. Complete U.S. Environmental Protection Agency Privacy Act procedures are set out in 40 CFR Part 16.

Record Source Categories:

Sources include individuals who address correspondence to the Agency or any of its employees in their official capacities; Agency employees preparing responses to incoming correspondence or who generate original correspondence in their official capacities; and the White House and other federal agencies (referrals to the Agency).

System Exempted from Certain Provisions of the Act:

None.

[FR Doc. 04-23033 Filed 10-13-04; 8:45 am]

BILLING CODE 6560-50-P